FEDERAL ACQUISITION REGULATION

48 CFR Ch. 1

Types of Contracts

CFR Correction

In Title 48 of the Code of Federal Regulations, Chapter 1 (Parts 1 to 51), revised as of October 1, 2018, on page 389, in § 16.505, paragraph (a)(7)(iv) is reinstated to read as follows:

§ 16.505 Ordering.

* * * * *

(a) * * *

(7) * * *

(iv) Delivery or performance schedule.

* * * * *

[FR Doc. 2019-09628 Filed 5-8-19; 8:45 am]

BILLING CODE 1301-00-D